DEPARTMENT OF AGRICULTURE

Forest Service

Notice of Settlement Pursuant to CERCLA; Butte Highlands Mill Site, Silver Bow County, MT

AGENCY: Forest Service, USDA.

ACTION: Notice of settlement.

SUMMARY: In accordance with section 122(i) of the Comprehensive Environmental Response, Compensation, and Liability Act, as amended (CERCLA), 42 U.S.C. 9622(i), notice is hereby given of an administrative settlement for recovery of past response costs with the Butte Highlands Mining Company (the Settling Party) concerning the Butte Highlands Mill Site, Silver Bow County, Montana (“the Site”). Under the settlement, the Settling Party has agreed to pay the Forest Service $100,000 to reimburse it for a portion of the response costs incurred at the Site. Pursuant to section 122(h)(1) of CERCLA, 42, U.S.C. 9622(h)(1), the USDA Forest Service Northern Region has agreed to forego the collection of substantial remaining past response costs at the Site from the Settling Party because of the company's inability to pay any additional amount. The settlement includes a covenant not to sue the Settling Party pursuant to Sections 106 and 107(a) of CERCLA, 42 U.S.C. 9606 and 9607(a), with regard to the Site.

For thirty (30) days following the date of publication of this notice, the United States will receive written comments relating to the settlement. The United States will consider all comments received and may modify or withdraw its consent to the settlement if comments received disclose facts or consideration which indicate that the settlement is inappropriate, improper, or inadequate. The United States' response to any comments received will be available for public inspection at the Butte Ranger District, 1820 Meadowlark Lane, Butt, Montana, 59701 and at the offices of the USDA Forest Service Northern Region, Federal Building, Missoula, Montana, 59807.

DATES: Comments must be submitted on or before March 9, 2005.

FOR FURTHER INFORMATION CONTACT: Copies of the proposed settlement are available for public inspection at the Butte Ranger District, 1820 Meadowlark Lane, Butte, Montana, 59701 and at the office of the USDA Forest Service Northern Region, Federal Building, Missoula, Montana, 59807. For technical information or a copy of the proposed settlement, contact Bob Wintergerst at the Northern Regional Office at 406-329-3036. For legal information or a copy of the proposed settlement, contact Michael R. Hope with USDA's Office of the General Counsel, (303) 275-5545. Comments should reference the Butte Highlands Mill Site, Silver Bow County, Montana, and should be addressed to Michael R. Hope, USDA Office of the General Counsel, PO Box 25005, Denver, CO 80225-0005.

Dated: February 1, 2005.
Kathleen McAllister,
Deputy Regional Forester.

[FR Doc. 05-2249 Filed 2-4-05; 8:45 am]

BILLING CODE 3410-11-M